FEDERAL COMMUNICATIONS COMMISSION

47 CFR Part 73

[DA 06-9; MB Docket No. 05-98, RM-11187, RM-11252, RM-11253]

Radio Broadcasting Services; Custer, SD, Edgemont, SD, Ellsworth AFB, SD, Gillette, WY, Lusk, WY, Moorcroft, WY, Murdo, SD, Pine Haven, WY, Rock River, WY, Upton, WY, Wall, SD, and Wheatland, WY

AGENCY: Federal Communications Commission.

ACTION: Final rule.

SUMMARY: This document grants a petition filed by Mitchell Beranek by allotting Channel 247A at Wheatland, Wyoming, as its fourth FM commercial broadcast service, which requires a site restriction of 2.3 kilometers (1.4 miles) north at reference coordinates 42-04-28 NL and 104-56-51 WL. See 70 FR 7219, published February 11, 2005. This document also grants a counterproposal filed jointly by Keyhole Broadcasting, LLC, licensee of Station KXXL(FM), Gillette, Wyoming and Mount Rushmore Broadcasting, Inc., licensee of Station KAWK(FM), Custer, South Dakota by allotting Channel 289C1 at Edgemont, South Dakota, as its first local service; substituting Channel 283C1 for vacant Channel 290C1 and Channel 228A for vacant Channel 283A at Upton, Wyoming; substituting Channel 291A for Channel 228A at Moorcroft, Wyoming and modifying the New Station authorization accordingly; substituting Channel 260C2 for Channel 280C2 at Gillette, Wyoming and modifying the FM Station KXXL license accordingly; substituting Channel 256A for vacant Channel 260A at Pine Haven, Wyoming; substituting Channel 299C for vacant Channel 288C at Wall, South Dakota and substituting Channel 298A for vacant Channel 289A at Wheatland, Wyoming. See SUPPLEMENTARY INFORMATION.

DATES: Effective February 21, 2006.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-98, adopted January 4, 2006, and released January 6, 2006. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

Additionally, to accommodate the Edgemont allotment, this document substitutes Channel 285C for Channel 286C1 at Custer, South Dakota, reallots Channel 285C from Custer to Ellsworth AFB, South Dakota, as its first local service and modifies the Station KAWK(FM) license accordingly. To facilitate this reallotment, this document substitutes Channel 283A for Channel 285A at Murdo, South Dakota; and modifies the New Station authorization to reflect this change since the Class C0 upgrade application is still pending.

Channel 289C1 can be allotted to Edgemont in compliance with the Commission's rules provided there is a site restriction of 33.3 kilometers (20.7 miles) northwest of Edgemont at coordinates 43-32-32 NL and 104-04-12 WL. Moreover, Channel 283C1 and Channel 228A can both be allotted to Upton in compliance with the Commission's rules provided there is a site restriction of 8.5 kilometers (5.3 miles) northwest of Upton at coordinates 44-08-58 NL and 104-42-28 WL. Channel 291A can be allotted to Moorcroft at the New Station current authorized site in compliance with the Commission's rules at coordinates 44-16-15 NL and 104-56-00 WL, which requires a site restriction of 1.6 kilometers (1.0 miles) northeast of Moorcroft. Channel 260C2 can be allotted to Gillette at the current licensed site of FM Station KXXL in compliance with the Commission's rules at coordinates 44-13-50 NL and 105-27-45 WL, which requires a site restriction of 7.4 kilometers (4.6 miles) southeast of Gillette. Channel 256A can be allotted to Pine Haven in compliance with the Commission's rules at city reference coordinates 44-21-28 NL and 104-48-36 WL. Channel 299C can be allotted to Wall in compliance with the Commission's rules provided there is a site restriction of 1.9 kilometers (1.2 miles) east of Wall at coordinates 43-59-47 NL and 102-13-07 WL. Channel 298A can be allotted to Wheatland in compliance with the Commission's rules at city reference coordinates 42-03-16 NL and 104-57-08 WL. Additionally, Channel 285C can be allotted to Ellsworth AFB at the current licensed site of Station KAWK(FM) in compliance with the Commission's rules at coordinates 43-44-41 NL and 103-28-52 WL, which requires a site restriction of 55 kilometers (34.2 miles) southwest of Ellsworth AFB. Lastly, Channel 283A can be allotted to Murdo at the New Station current authorized site in compliance with the Commission's rules at coordinates 43-53-24 NL and 100-43-06 WL, which requires a site restriction of 0.5 kilometers (0.3 miles) west of Murdo.

This document also dismisses the counterproposal filed by Kona Coast Radio, LLC, permitee of Station KVAN(FM), Rock River, Wyoming. The counterproposal requested the substitution of Channel 242C1 for Channel 240A at Rock River, Wyoming and modification of the Station KVAN(FM) license accordingly; substitution of Channel 247A for vacant Channel 298A at Wheatland; and substitution of Channel 299C for vacant Channel 242C at Lusk, Wyoming.

List of Subjects in 47 CFR Part 73

Radio, Radio broadcasting.

Part 73 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under South Dakota, is amended by removing Custer, Channel 286C2; adding Edgemont, Channel 289C1; adding Ellsworth AFB, Channel 285C; removing Channel 285A and adding Channel 283A at Murdo; and removing Channel 288C and adding Channel 299C at Wall.

3. Section 73.202(b), the Table of FM Allotments under Wyoming, is amended by removing Channel 282A and adding Channel 260C2 at Gillette; removing Channel 228A and adding Channel 291A at Moorcroft; removing Channel 260A and adding Channel 256A at Pine Haven; removing Channel 283A and Channel 290C1 and adding Channel 228A and Channel 283C1 at Upton; and removing Channel 289A and adding Channel 247A and Channel 298A at Wheatland.

Federal Communications Commission.
John A. Karousos,
Assistant Chief, Audio Division, Media Bureau.

[FR Doc. 06-792 Filed 1-26-06; 8:45 am]

BILLING CODE 6712-01-P